DEPARTMENT OF TRANSPORTATION

Federal Aviation Administration

14 CFR Part 71

[Docket No. FAA-2008-0211; Airspace Docket No. 08-AWP-3]

Establishment of Class D Airspace; San Bernardino International Airport, San Bernardino, CA

AGENCY: Federal Aviation Administration (FAA), DOT.

ACTION: Final rule.

SUMMARY: This rule establishes Class D airspace at San Bernardino International Airport, San Bernardino, CA. The FAA is taking this action to provide controlled airspace for the safety of aircraft executing Standard Instrument Approach Procedures (SIAPs) and other Instrument Flight Rules (IFR) operations at San Bernardino International Airport. The configuration of this airspace has been modified to accommodate airspace design changes that would enhance the safety and efficiency of air traffic operations at San Bernardino International Airport and continue general aviation access to Redlands Municipal Airport 4.5 nautical miles to the east.

DATES: Effective Date: 0901 UTC, November 20, 2008. The director of the Federal Register approves this incorporation by reference action under Title 1, Code of Federal Regulations, part 51, subject to the annual revision of FAA Order 7400.9 and publication of conforming amendments.

FOR FURTHER INFORMATION CONTACT: Larry Tonish, Operations Support Specialists, Federal Aviation Administration, Western Service Area, 1601 Lind Avenue, SW., Renton, WA 98057; telephone (425) 203-4532.

SUPPLEMENTARY INFORMATION:

History

On March 14, 2008, the FAA published a notice of proposed rulemaking in the Federal Register to establish Class D airspace at San Bernardino Airport, San Bernardino, CA, (73 FR 13811). On April 17, 2008, the FAA published an extension to the comment period in the Federal Register (73 FR 20843). This rule is the result of the airport proprietor's intent to contract a non-federal Airport Traffic Control Tower (ATCT) at San Bernardino International Airport, which will meet criteria for Class D airspace, and is necessary for the safety of aircraft executing these SIAPs and IFR operations.

There were 14 comments submitted regarding the proposed configuration of this Class D airspace. All of the comments referenced the cutout for the nearby Redlands Municipal Airport 4.5 nautical miles to the east. Several commenters recommended aligning the Redlands Municipal Airport cutout with visual landmarks. One commenter recommended the ceiling of the proposed San Bernardino Class D airspace be raised to accommodate terminal operations within the proposed Class D airspace.

The FAA has considered the recommendations to the NPRM and found they have merit and would enhance the safety and efficiency of the proposed airspace. The San Bernardino Class D airspace is being modified in this final rule to exclude the airspace north of Highland Avenue and east of Church Street, which would provide greater access to Redlands Municipal Airport. The ceiling of the San Bernardino Class D airspace area is also being raised to 3,200 feet mean sea level (MSL).

The Rule

This amendment to 14 CFR Part 71 establishes Class D airspace at San Bernardino International Airport, San Bernardino, CA. An ATCT is being established at San Bernardino International Airport, San Bernardino, CA, which will meet criteria for Class D airspace.

Class D airspace areas are published in Paragraph 5000 of FAA Order 7400.9R, dated August 15, 2007, and effective September 15, 2007, which is incorporated by reference in 14 CFR 71.1. The Class D airspace designations listed in this document would be published subsequently in the Order.

The FAA has determined that this regulation only involves an established body of technical regulations for which frequent and routine amendments are necessary to keep them operationally current. Therefore, this regulation: (1) Is not a “significant regulatory action” under Executive Order 12866; (2) is not a “significant rule” under DOT Regulatory Policies and Procedures (44 FR 11034; February 26, 1979); and (3) does not warrant preparation of a regulatory evaluation as the anticipated impact is so minimal. Since this is a routine matter that will only affect air traffic procedures and air navigation, it is certified that this rule, when promulgated, will not have a significant economic impact on a substantial number of small entities under the criteria of the Regulatory Flexibility Act.

This rulemaking is promulgated under the authority described in Subtitle VII, Part A, Subpart I, section 40103. The FAA is charged with prescribing regulations to assign the use of airspace necessary to ensure the safety of aircraft and the efficient use of airspace. This regulation is within the scope of that authority as it would provide for the safety of aircraft operations at San Bernardino International Airport.

List of Subjects in 14 CFR Part 71

Airspace, Incorporation by reference, Navigation (air).

Adoption of the Amendment

In consideration of the foregoing, the Federal Aviation Administration amends 14 CFR Part 71 as follows:

PART 71—DESIGNATION OF CLASS A, CLASS B, CLASS C, CLASS D, AND CLASS E AIRSPACE AREAS; ROUTES; AND REPORTING POINTS.

1. The authority citation for 14 CFR Part 71 continues to read as follows:

Authority: 49 U.S.C. 106(g), 40103, 40113, 40120; E.O. 10854, 24 FR 9565, 3 CFR, 1959-1963 Comp., p. 389.

§ 71.1 [Amended]

2. The incorporation by reference in 14 CFR 71.1 of the Federal Aviation Administration Order 7400.9R, Airspace Designations and Reporting Points, dated August 15, 2007, and effective September 15, 2007, is amended as follows:

Paragraph 5000 Class D Airspace area.

* * * * *

AWP CA D San Bernardino, CA [New]

San Bernardino International Airport, San Bernardino, CA

(Lat. 34°05′43″ N., long. 117°14′06″ W.)

That airspace extending upward from the surface to and including 3,200 feet MSL beginning at lat. 34°08′09″ N., long. 117°18′40″ W.; to lat. 34°08′09″ N., long. 117°11′13″ W.; to lat. 34°07′42″ N., long. 117°10′26″ W.; to lat. 34°02′24″ N., long. 117°10′26″ W.; thence via the 4.5 nautical mile radius of the San Bernardino Airport clockwise to the point of beginning. This Class D airspace area is effective during the specific dates and times established in advance by a Notice to Airmen. The effective dates and times will thereafter be continuously published in the Airport/Facility Directory.

* * * * *

Issued in Seattle, Washington, on September 16, 2008.
Kevin Nolan,
Acting Manager, Operations Support Group, Western Service Center.

[FR Doc. E8-22438 Filed 9-24-08; 8:45 am]

BILLING CODE 4910-13-P